ENVIRONMENTAL PROTECTION AGENCY

[FRL-7569-6]

Science Advisory Board Staff Office; Notification of a Consultative Meeting of the Radiation Advisory Committee of the Science Advisory Board

AGENCY: Environmental Protection Agency (EPA).

ACTION: Notice.

SUMMARY: The EPA Science Advisory Board (SAB) Staff Office announces a public meeting of the Science Advisory Board's Radiation Advisory Committee (RAC). The SAB RAC will conduct a second consultation regarding the Multi Multi-Agency Radiation Survey and Site Investigation Manual (MARSSIM) supplement dealing with the Multi Agency Radiation Survey and Assessment of Materials and Equipment (MARSAME).

DATES: October 21, 2003: 9 a.m. to 5 p.m. eastern standard time.

October 22, 2003: 8:30 a.m. to no later than 3:30 p.m. eastern standard time.

ADDRESSES: The meeting location for this face-to-face meeting of the RAC will be in the Washington, DC, metropolitan area and will be announced on the SAB Web site, http://www.epa.gov/sab) in advance prior to the meeting. Any member of the public wishing to provide comment should contact the Designated Federal Officer as indicated below.

FOR FURTHER INFORMATION CONTACT: Any member of the public wishing further information regarding the SAB or the RAC may contact Dr. K. Jack Kooyoomjian, Designated Federal Officer (DFO), U.S. EPA Science Advisory Board Staff Office (1400A), 1200 Pennsylvania Avenue, NW., Washington, DC 20460; by telephone/voice mail at (202) 564-4557; or via e-mail at kooyoomjian.jack@epa.gov. General information about the SAB can be found in the SAB Web site at http://www.epa.gov/sab.

SUPPLEMENTARY INFORMATION:

Summary: The EPA SAB Staff Office is announcing that the Radiation Advisory Committee (RAC), a standing committee of the SAB will conduct a second consultation regarding the Multi-Agency Radiation Survey and Site Investigation Manual (MARSSIM) supplement dealing with the Multi-Agency Radiation Survey and Assessment of Materials and Equipment (MARSAME). The first consultation took place on February 25 through 27, 2003 (see 68 FR, 6914-6915, February 11, 2003). The RAC will also receive an update on EPA's Office of Radiation and Indoor Air (ORIA) and the federal MARSSIM Work Group activities, receive program updates from ORIA, as well as plan other committee business for the balance of the fiscal year.

The Committee is to provide advice to the Agency as part of the SAB mission established by 42 U.S.C. 4365 to provide independent scientific and technical advice, consultation, and recommendations to the EPA Administrator on the technical basis for Agency positions and regulations. This committee will comply with the provisions of the Federal Advisory Committee Act (FACA) and all appropriate SAB procedural policies.

Background: The RAC had previously given advice to the federal MARSSIM Work Group pertaining to the MARSAME supplement on a variety of issues, including advice on better definition of the problems and issues, better specification on monitoring and measurement technologies and a discussion on a variety of topics and approaches. This consultative advice included development of scenarios and modeling technology that could be used as a tool to guide sampling approaches to be considered by the federal MARSSIM Work Group as they develop the MARSAME supplement.

Charge to the Panel: The SAB's RAC was asked to provide a second round of consultative advice on the technical approach and to provide suggestions for additional approaches to the problem, and to comment on any technical issues that the federal MARSSIM Work Group might encounter in development of the MARSSIM Supplement dealing with Materials and Equipment (MARSAME).

Further Information: The SAB Staff Office will re-post the names and biosketches for members of the RAC on the SAB Web site for examination by the interested public and will provide copies of the biosketches at the public meeting. Additional information regarding this advisory meeting, such as the agenda and this FR notice for the meeting can be found at the SAB Web site at http://www.epa.gov/sab. Since this is a consultation, there are no review or background documents posted on the SAB website.

Procedures for Providing Public Comment. It is the policy of the EPA SAB Staff Office to accept written public comments of any length, and to accommodate oral public comments whenever possible. The EPA SAB Staff Office expects that public statements presented at the SAB RAC meeting will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Officer (DFO) in writing (email, fax or mail) at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Definition: A SAB balanced review panel: For the EPA SAB, A balanced review panel (i.e., committee, subcommittee, or panel) is characterized by inclusion of candidates who possess the necessary domains of knowledge, the relevant scientific perspective (which, among other factors, can be influence by work history and affiliation), and the collective breadth of expertise to adequately address the charge. Information considered in the selection of the panel, include information provided by the public, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) availability and willingness to serve; (c) absence of financial conflicts of interest; (d) scientific credibility and impartiality; and (e) ability to work constructively and effectively in committees.

Meeting Accommodations: Individuals requiring special accommodation to access these meetings, should contact Dr. K. Jack Kooyoomjian at least five business days prior to the meeting so that appropriate arrangements can be made.

Dated: September 30, 2003.
Vanessa T. Vu,
Director, EPA Science Advisory Board Staff Office.

[FR Doc. 03-25403 Filed 10-6-03; 8:45 am]

BILLING CODE 6560-50-P